DEPARTMENT OF DEFENSE

Office of the Secretary

[Docket No. DOD-2007-OS-0128]

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by January 28, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instructions, please write to the Office of the Under Secretary of Defense (Personnel and Readiness), Defense Manpower Data Center, Attn: LCDR Shenae Morrow, 400 Gigling Road, Seaside, CA 93955.

Title and OMB Control Number: Application for Department of Defense Access Card—Defense Biometric Identification System (DBIDS) Enrollment; OMB Control Number 0704-TBD.

Needs and Uses: This information collection requirement is needed to obtain the necessary data to verify eligibility for a Department of Defense physical access card for personnel who are not entitled to a Common Access Card or other approved DoD identification card. The information is used to establish eligibility for the physical access to a DoD installation or facility, detect fraudulent identification cards, provide physical access and population demographic reports, provide law enforcement data, and in some cases provide anti-terrorism screening.

Affected Public: Individuals or households.

Annual Burden Hours: 50,000.

Number of Respondents: 300,000.

Responses per Respondent: 1.

Average Burden per Response: 10 minutes.

Frequency: On occasion.

SUPPLEMENTARY INFORMATION:

Summary of Information Collection

DoD Directive 1000.25 DoD Personnel Identity Protection (PIP) Program, July 2004, establishes policy for the implementation and operation of the PIP Program, to include use of DoD identity credentials and operation of the Defense Biometric Identification System (DBIDS). The DBIDS is a force protection tool of the law enforcement community, utilizing a centralized, rules-based, identity management and access verification system. Consistent with guidance contained in DoD Regulation 5200.08, Physical Security Program, April 2007, DBIDS will produce an identification card that will aid security personnel in identifying, controlling, and accounting for non-DoD personnel entering military installations.

Dated: November 15, 2007.
Patricia L. Toppings,
Alternate OSD Federal Register Liaison Officer, Department of Defense.

[FR Doc. 07-5859 Filed 11-28-07; 8:45 am]

BILLING CODE 5001-06-M